DEPARTMENT OF THE INTERIOR

National Park Service

[NPS-WASO-CR-NPS0035688; PPWOCRADP3, PCU00RP15.R50000 234P104215 (223); OMB Control Number 1024-0038]

Agency Information Collection Activities; Procedures for State, Tribal, and Local Government Historic Preservation Programs & Management of Historic Preservation Fund Grants

AGENCY: National Park Service, Interior.

ACTION: Notice of information collection; request for comment.

SUMMARY: In accordance with the Paperwork Reduction Act of 1995, we, the National Park Service (NPS) are proposing to revise a currently approved information collection.

DATES: Interested persons are invited to submit comments on or before August 7, 2023.

ADDRESSES: Send your comments on this information collection request (ICR) by mail to NPS Information Collection Clearance Officer (ADIR-ICCO), National Park Service, 12201 Sunrise Valley Drive, (MS-242) Reston, VA 20191 (mail); or to phadrea_ponds@nps.gov (email). Please reference Office of Management and Budget (OMB) Control Number 1024-0038 in the subject line of your comments.

FOR FURTHER INFORMATION CONTACT: To request additional information about this ICR contact Seth Tinkham, Grants Management Specialist, State, Tribal, Local, Plans & Grants Division at STLPG@nps.gov (email); or at 202-354-2020 (phone). Please reference OMB Control Number 1024-0038 in the subject line of your comments. Individuals in the United States who are deaf, deafblind, hard of hearing, or have a speech disability may dial 711 (TTY, TDD, or TeleBraille) to access telecommunications relay services. Individuals outside the United States should use the relay services offered within their country to make international calls to the point of contact in the United States.

SUPPLEMENTARY INFORMATION: In accordance with the Paperwork Reduction Act of 1995, (PRA, 44 U.S.C. 3501 et seq.) and 5 CFR 1320.8(d)(1), all information collections require approval under the PRA.

As part of our continuing effort to reduce paperwork and respondent burdens, we invite the public and other Federal agencies to comment on new, proposed, revised, and continuing collections of information. This helps us assess the impact of our information collection requirements and minimize the public's reporting burden. It also helps the public understand our information collection requirements and provide the requested data in the desired format.

We are especially interested in public comment addressing the following:

(1) Whether or not the collection of information is necessary for the proper performance of the functions of the agency, including whether or not the information will have practical utility.

(2) The accuracy of our estimate of the burden for this collection of information, including the validity of the methodology and assumptions used.

(3) Ways to enhance the quality, utility, and clarity of the information to be collected.

(4) How might the agency minimize the burden of the collection of information on those who are to respond, including through the use of appropriate automated, electronic, mechanical, or other technological collection techniques or other forms of information technology, e.g., permitting electronic submission of response.

Comments that you submit in response to this notice are a matter of public record. We will include or summarize each comment in our request to OMB to approve this ICR. Before including your address, phone number, email address, or other personal identifying information in your comment, you should be aware that your entire comment—including your personal identifying information—may be made publicly available at any time. While you can ask us in your comment to withhold your personal identifying information from public review, we cannot guarantee that we will be able to do so.

Abstract: This collection is authorized by Section 101(b) of the National Historic Preservation Act, as amended (54 U.S.C. 302301), which specifies the role of States, Tribes, and local governments in the Historic Preservation Program (HPP). This information collection has an impact on State, Tribal, and local governments that wish to participate formally with the National Park Service in the HPP. Information is also requested to meet grant management and monitoring of responsibilities for States, Tribes, local government, and other eligible grant recipients under 54 U.S.C. 300101 et seq. and 2 CFR 200.

Each year Congress directs the NPS to use part of the annual appropriation from the Historic Preservation Fund (HPF) for the State grant program and the Tribal grant programs to assist States and Tribes in carrying out their statutory role in the HPP. Through competitive grant programs, Congress also directs NPS to provide financial assistance to a variety of eligible grant recipients to support the broad cultural resource mandates of the National Historic Preservation Act and for other purposes.

We use these information collections to manage our statutory partnerships and for managing grants (usually to those same partners). We are requesting to update the name of this collection from “Procedures for State, Tribal, and Local Government Historic Preservation Programs” to “Procedures for State, Tribal, and Local Government Historic Preservation Programs & Management of Historic Preservation Fund Grants.” This change is to clarify our roles in managing our statutory partnerships and competitive (project) grants and formula grants.

The information from this collection is required to determine if State, Tribal, and local governments meet minimum standards and requirements for participation in the HPP and to meet program-specific requirements as well as government-wide requirements for Federal grant programs. This revision will seek approval for new collections to support competitive (project) grants, clarify collection requirements for formula grants, and reduce one collection related to the HPP.

Due to an unprecedented funding increase, we anticipate an increase in the number of applicants and awarded grants. We are requesting approval for the 10 new forms (listed below). The forms will enable us to prudently manage, monitor, track, and steward federal funding resources and our investment in the nation's historic resources and collections.

• Interim Progress Report Worksheet (applies to all project grants): This worksheet will provide an organized and systematic way for grant recipients to provide a performance progress report that relates grant-supported project work to expenditures. The report also assists with tracking grantee compliance with award terms and conditions related to environmental and historic resource protection laws.

• Final Report Worksheet (applies to all project grants): This worksheet will be used to reconcile the proposed project budget with actual expenditures, including final verification that grantee administrative and indirect costs expenditures did not exceed the statutory maximum. The worksheet also describes grant-assisted accomplishments and serves as the final performance report. Finally, the worksheet gathers data on the impact of the grant award.

• Project Image Form (applies to all project grants): This form is used to gather representative photographs, prints, drawings, or other visual depictions of the historic resources impacted by the project. Project images are used to depict damage to or illustrate areas needing repair in historic resources.

• Budget Narrative (applies to all project grants): This form will provide a standardized way for applicants to relate budget data depicted in aggregate on the SF-424A and/or SF-424C to specific work items. The data in the budget narrative are used to perform an initial price/cost analysis as part of assessing the reasonability of project budgets as well as compliance with program funding limitations.

• Project Description Worksheet (applies to all project grants): This worksheet will be used in the merit review selection process to rank and select projects for funding. The project description worksheet will be used by applicants to describe their project, relate project work to the specific grant program, and demonstrate the reasonableness of project budgets and staff qualifications.

• Emergency Supplemental Historic Preservation Fund Grant Final Report Worksheet (applies to the named grant program only): Due to the funding requirements and program goals for the Emergency Supplemental Historic Preservation Fund grants, a program-specific final report worksheet is required. This worksheet will require grantees to describe the full scope of grant-assisted disaster recovery operations and provide vital feedback to improve the delivery of federal financial assistance post-disaster.

• National Register Eligibility Worksheet (applies only to grant applications for development/construction work): For those grant programs which support project work on resources that are listed in, or eligible for listing in, the National Register of Historic Places, this worksheet will be used to document the name of the resource(s) as listed or determined eligible for listing. Additionally, this worksheet records the National Register listing number (called NRIS) for listed resources. This worksheet is necessary to determine whether the proposed project work is eligible for funding.

• Subgrant project description (applies to Paul Bruhn Historic Revitalization Subgrant Program and Emergency Supplemental Historic Preservation Fund grants only): The information collected will include the scope of work, name and address of subgrantee, subgrant budget, and subgrant final accomplishments. This information is required as part of prime recipient monitoring, to assist with review and compliance with environmental and historic resource protections laws, and to record expenditures of prime award funding bypass through entities.

• National Environmental Policy Act (NEPA) screening worksheet (applies to all grants): NEPA screening worksheet data are used to assess the environmental impact of grant and sub-grant assisted work.

• Project information submittals for National Historic Landmarks or World Heritage Sites (applies to all grants): Information submitted under this collection is used to meet statutory requirements for the protection of this nation's most valuable historic resources. Specifically, this project information is analyzed for compliance with the Secretary of the Interior's Standards and Guidelines for Archeology and Historic Preservation.

We are proposing to discontinue the HPF Online Closeout/EOY (State Sources of Non-federal Matching Share Report).

The NPS uses the information collected to ensure compliance with the National Historic Preservation Act, as well as government-wide grant requirements issued and implemented through 43 CFR 12 and 2 CFR 200.

Title of Collection: Procedures for State, Tribal, and Local Government Historic Preservation Programs & Management of Historic Preservation Fund Grants.

OMB Control Number: 1024-0038.

Form Number: NPS Forms 10-2060 through 10-2065.

Type of Review: Revision of a currently approved collection.

Respondents/Affected Public: State, Tribal, local governments, and grant applicants or recipients who wish to participate formally in the National Historic Preservation Program and/or who wish to apply for or receive Historic Preservation Fund grant assistance.

Total Estimated Number of Annual Responses: 47,908.

Estimated Completion Time per Response: Varies from 10 minutes to 40 hours depending on activity.

Total Estimated Number of Annual Burden Hours: 44,640.

Respondent's Obligation: Required to obtain or retain a benefit.

Frequency of Collection: On occasion.

Total Estimated Annual Nonhour Burden Cost: None.

An agency may not conduct or sponsor and a person is not required to respond to a collection of information unless it displays a currently valid OMB control number.

The authority for this action is the Paperwork Reduction Act of 1995 (44 U.S.C. 3501 et seq.).

Phadrea Ponds,
Information Collection Clearance, Officer, National Park Service.

[FR Doc. 2023-12070 Filed 6-5-23; 8:45 am]

BILLING CODE 4312-52-P